DEPARTMENT OF ENERGY

Federal Energy Regulatory Commission

[Docket No. RM01-12-000]

Electricity Market Design and Structure; Notice of Working Paper

March 15, 2002.

Take notice that the Commission has distributed a working paper on standardized transmission service and wholesale electric market design. The purpose of this paper is to stimulate public discussion that can guide the development of a proposed rulemaking on these issues.

The working paper is being placed in the record of this rulemaking docket. It will also be available on the Commission's website at http://www.ferc.gov/electric/RTO/mrkt-strct-comments/discussion_paper.htm.

Comments on this paper should be filed with the Commission by March 27, 2002. Comments may be filed in paper format or electronically. For paper filings, the original and 14 copies of the comments should be submitted to the Office of the Secretary, Federal Energy Regulatory Commission, 888 First Street, NE., Washington D.C. 20426. For electronic filings via the Internet, see 18 CFR 385.2001(a)(1)(iii) and the instructions on the Commission's web site under the “e-Filing” link. All comments will be placed in the Commission's public files and will be available for inspection in the Commission's Public Reference Room at 888 First Street, NE., Washington DC 20426, during regular business hours. Additionally, all comments may be viewed, printed, or downloaded remotely via the Internet through FERC's Homepage using the RIMS link. User assistance for RIMS is available at 202-208-2222, or by e-mail to rimsmaster@ferc.gov.

Magalie R. Salas,
Secretary.

[FR Doc. 02-6891 Filed 3-21-02; 8:45 am]

BILLING CODE 6717-01-P